DEPARTMENT OF ENERGY

Federal Energy Regulatory Commission

[Docket No. RP03-546-000]

Transwestern Pipeline Company; Notice of Tariff Filing

July 16, 2003.

Take notice that on July 10, 2003, Transwestern Pipeline Company (Transwestern) tendered for filing a letter in accordance with its FERC Gas Tariff, Second Revised Volume No. 1, to notify the Federal Energy Regulatory Commission (Commission) of changes to the Supply Pooling Points list on Transwestern's Web site.

Transwestern states that in Order 637 Compliance filings, Transwestern received Commission approval for Rate Schedule SP-1 (Supply Pooling Service) by Order dated October 10, 2002. The SP-1 Rate Schedule provides that Transwestern will post on its Web site the list of physical receipt points associated with each supply pooling point and that Transwestern will file with the Commission any additions or deletions to the list of available points of service. Transwestern states that because of operational reasons the list of receipt points submitted in this filing will no longer be included in Transwestern's Supply Pooling Points list on the Transwestern Web site.

Any person desiring to be heard or to protest said filing should file a motion to intervene or a protest with the Federal Energy Regulatory Commission, 888 First Street, NE., Washington, DC 20426, in accordance with § 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: July 22, 2003.

Magalie R. Salas,
Secretary.

[FR Doc. 03-18671 Filed 7-21-03; 8:45 am]

BILLING CODE 6717-01-P